DEPARTMENT OF HEALTH AND HUMAN SERVICES

National Institutes of Health

National Institute of Neurological Disorders and Stroke; Amended Notice of Meeting

Notice is hereby given of a change in the meeting of the National Institute of Neurological Disorders and Stroke Special Emphasis Panel, April 22, 2015, 08:00 a.m. to April 23, 2015, 06:00 p.m., Lorien Hotel & Spa, 1600 King Street, Alexandria, VA, 22314 which was published in the Federal Register on April 3, 2015, 80FRN18241.

The meeting notice is amended to change the location of the meeting from the Lorien Hotel & Spa to the Hotel Monaco Alexandria. The date and time remain the same. The meeting is closed to the public.

Dated: April 23, 2015.
Carolyn Baum,
Program Analyst, Office of Federal Advisory Committee Policy.

[FR Doc. 2015-09877 Filed 4-28-15; 8:45 am]

BILLING CODE 4140-01-P